DEPARTMENT OF HOMELAND SECURITY

U.S. Customs and Border Protection

Notice of Revocation of Customs Broker's License

AGENCY: U.S. Customs and Border Protection, Department of Homeland Security.

ACTION: Revocation of customs broker's license.

SUMMARY: This document provides notice of the revocation by operation of law of a customs broker's license.

FOR FURTHER INFORMATION CONTACT: Melba Hubbard, Branch Chief, Broker Management, Office of Trade, (202) 325-6986, melba.hubbard@cbp.dhs.gov.

SUPPLEMENTARY INFORMATION: This document provides notice of the revocation of a customs broker's license pursuant to section 641 of the Tariff Act of 1930, as amended (19 U.S.C. 1641), and section 111.45(a) of title 19 of the Code of Federal Regulations (19 CFR 111.45(a)). The following customs broker's license and all associated permits were revoked by operation of law for failure to employ at least one qualifying individual who holds a valid customs broker's license.

Company name | License | Port of issuance
Stars Design Group Inc | 32197 | St. Louis.

Dated: December 21, 2018.
Brenda B. Smith,
Executive Assistant Commissioner, Office of Trade.

[FR Doc. 2019-02842 Filed 2-19-19; 8:45 am]

BILLING CODE 9111-14-P